DEPARTMENT OF ENERGY

Federal Energy Regulatory Commission

[Project No. 2639-028]

Northern States Power Company—Wisconsin; Notice Soliciting Scoping Comments

Take notice that the following hydroelectric application has been filed with the Commission and is available for public inspection.

a. Type of Application: New Major License.

b. Project No.: P-2639-028.

c. Date filed: November 30, 2021.

d. Applicant: Northern States Power Company—Wisconsin.

e. Name of Project: Cornell Hydroelectric Project.

f. Location: The existing project is located on the Lower Chippewa River in the township of Cornell, Chippewa County, Wisconsin.

g. Filed Pursuant to: Federal Power Act 16 U.S.C. 791 (a)-825(r).

h. Applicant Contact: Donald R. Hartinger, Director, Hydro Plants, 1414 W Hamilton Avenue, P.O. Box 8; Eau Claire, WI 54701; donald.r.hartinger@xcelenergy.com; (612) 321-3063.

i. FERC Contact: Michael Davis at (202) 502-8339; or michael.davis@ferc.gov.

j. Deadline for filing scoping comments: March 8, 2023.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2639-028.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. Project Description: The project consists of the following existing facilities: (1) a reservoir having 985 acres surface area, gross storage capacity of 8,000 acre-feet and a net storage capacity of 1,500 acre-feet at a maximum normal water surface elevation of 1,002.0 National Geodetic Vertical Datum 1929 (NGVD); (2) an 861-foot-long earth and concrete dam including: (a) a 42-foot-wide east concrete non-overflow section with a top elevation of 1,010.0 feet NGVD, (b) a 131-foot-long, 151.5-foot-wide, 82-foot-high powerhouse-intake structure containing three horizontal shaft turbine-generators rated at 10 megawatts each and one vertical shaft turbine-generator rated at 750 kilowatts, (c) an 85-foot-long gated spillway containing two 37-foot-wide by 23.3-foot-high Tainter gates with top of pier elevation of 1,008.0 feet NGVD, (d) a 10-foot-long non-overflow concrete dam section with a top elevation of 1,004.2 feet NGVD, (e) a 292-foot-long gated spillway containing 12 20-foot-long by 16-foot-high steel Tainter gates with a top of pier elevation of 1,004.2 feet NGVD, (f) a 210-foot-long by 28-foot-high overflow concrete section topped with 48-inch-high flashboards with top of flashboard elevation of 1,002.2 feet NGVD, and (g) a 91-foot-long west earthen embankment with a top elevation of 1,010.0 feet NGVD; (3) four 160-foot-long, 7.2-kilovolt (kV) transmission lines connecting the powerhouse to an adjacent project owned substation that is the point of interconnection to a 115-kV distribution line belonging to the Northern States Power Company—Wisconsin; and (4) appurtenant facilities. The project average annual generation between 2016 and 2020 was 113,839 megawatt hours.

m. In addition to publishing the full text of this notice in the Federal Register, the Commission provides all interested persons an opportunity to view and/or print the contents of this notice, as well as other documents in the proceeding (e.g., scoping document) via the internet through the Commission's Home Page (http://www.ferc.gov) using the “eLibrary” link. Enter the docket number, excluding the last three digits, in the docket number field to access the document (P-2639). For assistance, contact FERC at FERCOnlineSupport@ferc.gov or call toll-free, (866) 208-3676 or TYY, (202) 502-8659.

You may also register online at http://www.ferc.gov/docs-filing/esubscription.asp to be notified via email of new filings and issuances related to this or other pending projects. For assistance, contact FERC Online Support.

n. Scoping Process:

Commission staff will prepare either an environmental assessment (EA) or an environmental impact statement (EIS) that describes and evaluates the probable effects, if any, of the licensee's proposed action and alternatives. The EA or EIS will consider environmental impacts and reasonable alternatives to the proposed action. The Commission's scoping process will help determine the required level of analysis and satisfy the National Environmental Policy Act (NEPA) scoping requirements, irrespective of whether the Commission prepares an EA or an EIS. At this time, we do not anticipate holding on-site scoping meetings. Instead, we are soliciting written comments and suggestions on the preliminary list of issues and alternatives to be addressed in the NEPA document, as described in scoping document 1 (SD1), issued February 6, 2023.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: February 6, 2023.
Kimberly D. Bose,
Secretary.

[FR Doc. 2023-02882 Filed 2-9-23; 8:45 am]

BILLING CODE 6717-01-P